DEPARTMENT OF COMMERCE

National Oceanic and Atmospheric Administration

50 CFR Parts 223 and 226

[Docket No. 201228-0357 and 201228-0358]

RIN 0648-BC56, 0648-BJ65

Endangered and Threatened Species; Designation of Critical Habitat for the Arctic Subspecies of the Ringed Seal and Designation of Critical Habitat for the Beringia Distinct Population Segment of the Bearded Seal; Public Hearings

AGENCY: National Marine Fisheries Service (NMFS), National Oceanic and Atmospheric Administration (NOAA), Commerce.

ACTION: Notification of public hearings.

SUMMARY: We, NMFS, will hold three public hearings on both our January 8, 2021, revised proposed rule to designate critical habitat for the threatened Arctic subspecies of the ringed seal (Pusa hispida hispida) and our proposed rule to designate critical habitat for the threatened Beringia distinct population segment (DPS) of the Pacific bearded seal subspecies (Erignathus barbatus nauticus) under the Endangered Species Act (ESA).

DATES: Public hearing conference calls will be held, convening at 4 p.m. and concluding no later than 7 p.m. Alaska Standard Time (AKST), on each of the following dates: February 23, 2021 (Yukon-Kuskokwim and southwest Alaska); February 24, 2021 (Northwest Arctic Borough and northern Bering Sea); and February 25, 2021 (North Slope Borough). NMFS may close the hearings 15 minutes after the conclusion of public testimony and after responding to any clarifying questions from hearing participants about the proposed critical habitat designations. For each hearing, we encourage participation by members of the public wishing to provide oral comments specific to the regions indicated parenthetically. However, all hearings are open to all interested parties and at each hearing we will accept testimony regarding any area or aspect of the proposed critical habitat designations. Written comments must be received by March 9, 2021.

ADDRESSES: The public hearings will be held by conference calls rather than at physical locations. Conference call information for all three hearings is the same: Telephone: (800) 201-3962, Conference Code: 651174.

You may submit written data, information, or comments regarding the revised proposed rule to designate critical habitat for the Arctic ringed seal, identified by Docket ID NOAA-NMFS-2013-0114, and the proposed rule to designate critical habitat for the Beringia DPS of the bearded seal, identified by Docket ID NOAA-NMFS-2020-0029, by either of the following methods:

• Electronic Submission: Submit all electronic comments via the Federal eRulemaking Portal. Go to www.regulations.gov, search for the relevant Docket ID indicated above, click the “Comment Now!” or “Comment” icon, complete the required fields, and enter or attach your comments.

• Mail: Submit written comments to Jon Kurland, Assistant Regional Administrator for Protected Resources, Alaska Region NMFS, Attn: James Bruschi, P.O. Box 21668, Juneau, AK 99082-1668.

Instructions: NMFS may not consider comments sent by any other method, to any other address or individual, or received after the end of the comment period. All comments received are a part of the public record and will generally be posted for public viewing on www.regulations.gov without change. All personal identifying information (e.g., name, address), confidential business information, or otherwise sensitive information submitted voluntarily by the sender will be publicly accessible. NMFS will accept anonymous comments (enter “N/A” in the required fields if you wish to remain anonymous).

The proposed rules and supporting documents are available in the dockets for the proposed rules at www.regulations.gov, and on the NMFS website at www.fisheries.noaa.gov/action/designation-critical-habitat-arctic-subspecies-ringed-seal and www.fisheries.noaa.gov/action/designation-critical-habitat-beringia-distinct-population-segment-bearded-seal.

FOR FURTHER INFORMATION CONTACT: Tammy Olson, NMFS Alaska Region, (907) 271-2373; or Jon Kurland, NMFS Alaska Region, (907) 586-7638.

SUPPLEMENTARY INFORMATION:

Background

On January 8, 2021, NMFS published a revised proposed rule to designate critical habitat for the threatened Arctic ringed seal (86 FR 1452) and a proposed rule to designate critical habitat for the threatened Beringia DPS of the bearded seal (86 FR 1433) under the ESA. Each proposed designation comprises an area of marine habitat in the northern Bering, Chukchi, and Beaufort seas. A particular area north of the Beaufort Sea shelf is proposed for exclusion from the proposed designation for the Arctic ringed seal based on national security impacts. The proposed rules opened a public comment period for each of the proposed designations through March 9, 2021, and announced that public hearings would be held in Alaska.

Public Hearings

We will hold three public hearing conference calls to accept oral comments on both our revised proposed rule to designate critical habitat for the Arctic ringed seal and our proposed rule to designate critical habitat for the Beringia DPS of the bearded seal on the dates and at the times listed above (see ADDRESSES and DATES). Please see the Public Comments Solicited section of the January 8, 2021, proposed rules regarding the types of information and data we particularly seek.

During each public hearing, NMFS will provide a brief opening presentation on the proposed critical habitat designations before accepting public testimony for the record. The hearings will be recorded for the purpose of preparing transcripts of oral comments received. Attendees will be asked to identify themselves before joining the hearing. Once connected to the call, telephone lines will be automatically muted. During the public testimony portion of the hearing, to indicate that you would like to offer a comment, press 5*. When it is your turn to offer your comment, the moderator will unmute your individual line. Commenters will be asked to indicate their full name and the identity of any organization on whose behalf they may be speaking. In the event that attendance at the public hearings is large, the time allotted for each commenter may be limited.

Anyone wishing to make an oral statement at the public hearing is encouraged to also submit a written copy of their statement to us during the comment period by either of the methods identified above (see ADDRESSES and DATES). There are no limits on the length of written comments submitted to us. Written statements and supporting data and information submitted during the comment period will be considered with the same weight as oral statements provided during the public hearings.

These public hearings are physically accessible to people with disabilities. People needing reasonable accommodations to participate in these hearings should submit a request as soon as possible, and no later than 10 business days before the accommodation is needed, by contacting Tammy Olson (see FOR FURTHER INFORMATION CONTACT).

Authority: 16 U.S.C. 1531 et seq.

Dated: January 26, 2021.
Angela Somma,
Chief, Endangered Species Conservation Division, Office of Protected Resources, National Marine Fisheries Service.

[FR Doc. 2021-02055 Filed 1-29-21; 8:45 am]

BILLING CODE 3510-22-P